DEPARTMENT OF COMMERCE

National Oceanic and Atmospheric Administration

Marine Mammals and Endangered Species

AGENCY: National Marine Fisheries Service (NMFS), National Oceanic and Atmospheric Administration (NOAA), Commerce.

ACTION: Notice; issuance of permits and permit modifications.

SUMMARY: Notice is hereby given that permits or permit amendments have been issued to the following entities under the Marine Mammal Protection Act (MMPA) and the Endangered Species Act (ESA), as applicable.

ADDRESSES: The permits and related documents are available for review upon written request or by appointment in the Permits and Conservation Division, Office of Protected Resources, NMFS, 1315 East-West Highway, Room 13705, Silver Spring, MD 20910; phone: (301) 427-8401; fax: (301) 713-0376.

FOR FURTHER INFORMATION CONTACT: Amy Hapeman (Permit Nos. 22835 and 23095), Jennifer Skidmore (Permit Nos. 20610-02, 22435, and 23092), and Carrie Hubard (Permit No. 23043); at (301) 427-8401.

SUPPLEMENTARY INFORMATION: Notices were published in the Federal Register on the dates listed below that requests for a permit or permit amendment had been submitted by the below-named applicants. To locate the Federal Register notice that announced our receipt of the application and a complete description of the research, go to www.federalregister.gov and search on the permit number provided in the table below.

Permit No. | RIN | Applicant | Previous Federal Register notice | Permit or amendment issuance date
20610-02 | 0648-XF801 | David Portnoy, Ph.D., Texas A&M University, Corpus Christi, TX 78412 | 84 FR 50018; September 24, 2019 | November 15, 2019.
22435 | 0648-XR017 | Northwest Fisheries Science Center, Marine Forensic Laboratory (Responsible Party: Kevin Werner, Ph.D.), 2725 Montlake Blvd East, Seattle, WA 98112 | 84 FR 36054; July 26, 2019 | November 15, 2019.
22835 | 0648-XR003 | Scripps Institute of Oceanography (Responsible Party: John Hildebrand, Ph.D.), University of California San Diego, 9500 Gilman Drive, La Jolla, CA 92093 | 84 FR 31846; July 3, 2019 | November 1, 2019.
23043 | 0648-XR051 | Devon Massyn, Natural History Unit, 2118 Manhattan Beach Blvd, Unit B, Redondo Beach, CA 90278 | 84 FR 52073; October 1, 2019 | November 25, 2019.
23092 | 0648-PR-A004 | C. Scott Baker, Ph.D., Oregon State University, Marine Mammal Institute, Hatfield Marine Science Center, 2030 SE Marine Science Drive, Newport, OR 97365 | 84 FR 49098; September 18, 2019 | November 5, 2019.
23095 | 0648-XR033 | Ari Friedlaender, Ph.D., University of California at Santa Cruz, 115 McAllister Way, Santa Cruz, CA 95060 | 84 FR 39811; August 12, 2019 | November 13, 2019.

In compliance with the National Environmental Policy Act of 1969 (42 U.S.C. 4321 et seq.), a final determination has been made that the activities proposed are categorically excluded from the requirement to prepare an environmental assessment or environmental impact statement.

As required by the ESA, as applicable, issuance of these permit was based on a finding that such permits: (1) Were applied for in good faith; (2) will not operate to the disadvantage of such endangered species; and (3) are consistent with the purposes and policies set forth in Section 2 of the ESA.

Authority: The requested permits have been issued under the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226), as applicable.

Dated: December 5, 2019.
Amy Sloan,
Acting Chief, Permits and Conservation Division, Office of Protected Resources, National Marine Fisheries Service.

[FR Doc. 2019-26619 Filed 12-10-19; 8:45 am]

BILLING CODE 3510-22-P